TENNESSEE VALLEY AUTHORITY

18 CFR Part 1318

Procedures for Implementing the National Environmental Policy Act

AGENCY: Tennessee Valley Authority.

ACTION: Proposed rule; extension of comment period.

SUMMARY: The Tennessee Valley Authority (TVA) is announcing an extension of the public comment period on its proposed amendments to procedures implementing the National Environmental Policy Act (NEPA). The amendments also address implementation of the Executive Order 13690, Establishing a Federal Flood Risk Management Standard and a Process for Considering Stakeholder Input. A notice of Proposed Rulemaking was published in the Federal Register on June 8, 2017, announcing a 60-day comment period closing on August 7, 2017. This document serves to extend the comment period by 30 days until September 6, 2017. TVA is extending the comment period because of the timely requests we received to do so.

DATES: The comment period for the proposed rule published June 8, 2017, at 82 FR 26620, is extended. Comments must be received or postmarked on or before September 6, 2017.

ADDRESSES: Comments can be submitted by one of the following methods:

1. TVA's NEPA Web site: http://www.tva.gov/nepa. Follow the instructions for submitting comments electronically on the Web site.

2. Email: NEPArule@tva.gov.

3. Mail comments to: NEPA Rule Comments, Tennessee Valley Authority, 400 W. Summit Hill Drive 11D-K, Knoxville, TN 37902.

Before including your address, phone number, email address, or other personal identifying information in your comment, please note that any comments received, including names and addresses, will become part of the project administrative record and will be available for public inspection.

FOR FURTHER INFORMATION CONTACT: Matthew Higdon, NEPA Specialist, Tennessee Valley Authority, 400 W. Summit Hill Drive #11D-K, Knoxville, Tennessee 37902. Telephone: 865-632-8051. Email: mshigdon@tva.gov.

SUPPLEMENTARY INFORMATION: On June 8, 2017, TVA published a notice of Proposed Rulemaking in the Federal Register (82 FR 26620) to revise TVA's implementing procedures for assessing the effects of TVA's actions in accordance with NEPA, as amended (42 U.S.C. 4321 et seq.). TVA requested comments from the public during a 60-day public review period. As discussed in that earlier document, the proposed amendments include: (1) Updates to organizational references to clarify roles and responsibilities within TVA; (2) acknowledgement of the use of modern notification and communication methods to improve public participation; (3) revisions to TVA's list of categorical exclusions to include common actions that have been demonstrated to have little effect on the human environment and to remove categorical exclusions for actions which TVA rarely or no longer undertakes; (4) instructions to incorporate Executive Order 13690; and (5) revisions to improve the clarity of the procedures and remove redundant and outdated information. TVA proposes to publish the amended procedures as rules to be codified in Chapter XIII (Tennessee Valley Authority) as part 1318 of the Code of Federal Regulations (18 CFR part 1318). The key changes to the procedures proposed by TVA are described in detail in the notice.

After publication of the notice, TVA received several requests by stakeholders to extend the comment period to allow for additional time to review the amendments. TVA determined that extending the period by 30 days is appropriate. The TVA Web site listed above contains relevant information relating to the proposed amendments, and TVA urges the public to review this information prior to submitting comments.

Jacinda B. Woodward,
Senior Vice President, Resources and River Management.

[FR Doc. 2017-15983 Filed 7-27-17; 8:45 am]

BILLING CODE 8120-08-P